DEPARTMENT OF ENERGY

Agency Information Collection Extension

AGENCY: U.S. Department of Energy.

ACTION: Notice and Request for Comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before April 8, 2008. If you anticipate difficulty in submitting comments within that period, contact the person listed below as soon as possible.

ADDRESSES: Written comments may be sent to Richard Langston by fax at 202-287-1345 or by e-mail to richard.langston@hq.doe.gov.

FOR FURTHER INFORMATION CONTACT: Requests for additional information or copies of the information collection instrument and instructions should be directed to Richard Langston at 202-287-1339 or by fax at 202-287-1345 or by e-mail at richard.langston@hq.doe.gov.

SUPPLEMENTARY INFORMATION: This information collection request contains: (1) OMB No. 1910-4100; (2) Information Collection Request Title: Department of Energy Procurement Package; (3) Type of Review: Renewal; (4) Purpose: The procurement information is used by the Department's program, financial and procurement personnel to evaluate proposals and administer contracts. These collections are used to exercise management oversight and control of the Department's management contractors operating the Department's major facilities and other contractors furnishing goods and services; (5) Respondents: 7,539; (6) Estimated Number of Burden Hours: 896,209.

Statutory Authority: Section 644 of the Department of Energy Organization Act, 42 U.S.C. 7254, and section 205(c) of the Federal Property and Administrative Services Act, 40 U.S.C. 486(c).

Issued in Washington, DC on February 1, 2008.
Edward R. Simpson,
Director, Office of Procurement and Assistance Management.

[FR Doc. E8-2341 Filed 2-7-08; 8:45 am]

BILLING CODE 6450-01-P